DEPARTMENT OF TRANSPORTATION

Federal Aviation Administration

Proposed Southern Nevada Supplemental Airport, Clark County, Nevada: Cancellation of Suspended Environmental Impact Statement (EIS) Process; Preparation of New EIS and Resource Management Plan Amendment; Public Scoping

AGENCY: Federal Aviation Administration (FAA), DOT.

ACTION: Notice of cancellation of suspended EIS; Notice of intent to prepare new EIS, amend the BLM Las Vegas Resource Management Plan, and Request for Scoping comments.

SUMMARY: The Federal Aviation Administration (FAA), in cooperation with the Bureau of Land Management (BLM), as Joint Lead Agencies (JLA), is issuing this notice to advise the public, that the JLA has discontinued preparation of an Environmental Impact Statement (EIS) for the construction of the Proposed Southern Nevada Supplemental Airport (SNSA) initiated in 2006 under provisions of the National Environmental Policy Act (NEPA) of 1969, as amended. Due to recent legislative changes to the NEPA statute, and to establish an official start date for the environmental review of the proposed SNSA, the FAA, in cooperation with the BLM, are issuing this notice to advise the public that we are canceling the existing EIS process that was started in 2006, and are beginning a new EIS and Resource Management Plan Amendment (RMPA) to assess the potential impacts of the proposed SNSA.

DATES: Three (3) public scoping meetings are planned for the general public. A virtual public scoping meeting will be held on July 29, 2025, from 6 p.m. to 8 p.m. Pacific daylight time. Two in-person meetings will be held. The first in-person meeting will be held on July 30, 2025, at from 5 p.m. to 7 p.m. Pacific daylight time. The second in-person meeting will be held on July 31, 2025, from 6 p.m.to 8 p.m. Pacific daylight time.

ADDRESSES: Comments on the scope of the EIS and BLM Planning Criteria must be submitted to the JLA either via U.S. Mail to the contacts listed the FOR FURTHER INFORMATION CONTACT section of this notice or by email to SNSAEIS@landrumbrown.com.

The July 30, 2025 in-person meeting will be held at the East Las Vegas Library—Multipurpose Rooms 1 and 2 at 2851 East Bonanza Road, Las Vegas, Nevada 89101.

The July 31, 2025 in-person meeting will be held at the Primm Valley Casino Resorts in the Primm Valley Ballroom, 31900 South Las Vegas Boulevard, Primm, Nevada 89019. Additional information on the meetings, including how to register, can be found on the following websites: https://www.snvairporteis.com and the BLM National NEPA Register at https://eplanning.blm.gov/eplanning-ui/project/2037961/510.

FOR FURTHER INFORMATION CONTACT: David B. Kessler, AICP, Project Manager, Southern Nevada Supplemental Airport EIS, AWP-610.1, Airports Division, Federal Aviation Administration, Western-Pacific Region, 777 South Aviation Boulevard, El Segundo, California 90245. Telephone: 424-405-7315. Email: dave.kessler@faa.gov, and Joanie Guerrero, Realty Specialist, Bureau of Land Management, Las Vegas Field Office, 4701 N Torrey Pines Drive, Las Vegas, Nevada 89130, Telephone: 702-515-5274, Email: jjguerrero@blm.gov.

SUPPLEMENTARY INFORMATION: On September 5, 2006, the FAA published a Notice of Intent to prepare an EIS for the proposed SNSA (71 FR 52367). On January 25, 2008, FAA published a Notice of Availability of the Draft Purpose and Need Working Paper for the Draft EIS which was available for public comment pursuant to section 304 of the Vision 100 Century of Aviation Act of 2003 (Pub. L. 108-176) [49 U.S.C. 47171(I)] (73 FR 4666). On August 4, 2008, FAA published a Notice of Availability of the Draft Alternatives Working Paper for the Draft EIS for public comment pursuant to section 304 of the Vision 100 Century of Aviation Act of 2003 (Pub. L. 108-175) [49 U.S.C. 47171(I)] (73 FR 45268).

The FAA received a letter dated June 29, 2010, from the Clark County Department of Aviation asking FAA to suspend any further work on the EIS. The reasons for this action included the local economic conditions in Las Vegas, and Clark County, as well as other local fiscal and budgetary constraints. In 2023, following the COVID-19 (Pandemic), the economic conditions in Clark County improved and passenger usage at Harry Reid International Airport have returned to pre-Pandemic conditions.

The EIS/RMPA will include consideration of the 5,752 acres of previously transferred federally managed lands by the BLM in 2000, to Clark County for the new airport (Pub. L. 106-362). In addition to the 5,752 acres of previously transferred federally managed lands by the BLM, 2,320 acres for flood mitigation infrastructure shall be conveyed to Clark County upon an acceptable Record of Decision (ROD) under Public Law 113-291. Lastly, the 17,000-acres designated as the Noise Compatibility Area around the proposed new airport, shall be conveyed to Clark County from the BLM upon an acceptable Record of Decision (ROD) under Public Law 107-282. This law also includes the establishment of the Ivanpah transportation and utilities corridor between the Las Vegas valley and the proposed SNSA for the placement, on a nonexclusive basis, of transportation and utilities infrastructure. Also associated with the EIS and in compliance with NEPA, and the Federal Land Policy and Management Act of 1976, as amended (FLPMA), the Bureau of Land Management (BLM) Las Vegas Field Office (LVFO) intends to prepare a resource management plan amendment (RMPA).

In the 2000 Ivanpah Valley Airport Public Lands Transfer Act, (Pub. L. 106-362), Congress directed the Bureau of Land Management (BLM), acting on behalf of the Secretary of the U.S. Department of the Interior, to transfer property in Ivanpah Valley, Nevada to Clark County for the purpose of developing an airport facility and related infrastructure. That transfer has been completed. Other BLM Managed lands associated with the proposed airport would also be transferred to Clark County under the Clark County Conservation of Public Land and Natural Resources Act of 2002 (Pub. L. 107-282), Land Conveyance for Southern Nevada Supplemental Airport (Pub. L. 113-291), and the National Defense Authorization Act of 2015 (Pub. L. 113-291). However, in accordance with the Ivanpah Valley Airport Public Lands Transfer Act, should completion of the NEPA process lead to the determination that an airport should not be constructed at the site, it will be transferred back to BLM ownership.

The Ivanpah Valley Airport Public Lands Transfer Act also directed the U.S. Departments of Transportation and the Interior to prepare a joint EIS “with respect to initial planning and construction” prior to construction of an airport facility and related infrastructure on the proposed Ivanpah site. Due to recent amendments in NEPA by the Fiscal Responsibility Act of 2023 (Pub. L. 118-5), the FAA in cooperation with the BLM, is providing notice, as Joint Lead Agencies (JLA), that the on-going EIS process, suspended since 2010, will be cancelled and a new EIS process will start for the proposed Southern Nevada Supplemental Airport.

Cancellation of the original EIS process and starting a new EIS/RMPA process is necessary to ensure proper timing consistent with NEPA, as amended. The EIS/RMPA will address a range of reasonable alternatives to meet the purpose and need, and are technically and economically feasible. The range of alternatives identified during the scoping process may include alternatives other than the Proposed Action. The alternatives may include, but are not limited to, expansion of Harry Reid International Airport (formerly known as McCarran International Airport) and use of other existing airports. The alternatives will also include a no-action scenario as required by NEPA.

The FAA and BLM intend to use the preparation of this EIS/RMPA to comply with applicable special purpose laws having public involvement requirements. Comments addressing your issues on the scope of the EIS should be directed to the listed contact persons either using U.S. Mail and must be postmarked no later than September 05, 2025, or by email to: SNSAEIS@landrumbrown.com.

The purpose of this notice is to inform Federal, State, and local government agencies, and the public of the intent to prepare an EIS and to conduct a public and agency scoping process. Information, data, opinions, and comments obtained throughout the scoping process will be considered during the preparation of the draft EIS/RMPA.

This document also provides notice that the BLM intends to prepare an RMPA for the Southern Nevada Supplemental Airport Project and seeks public input on issues and planning criteria. The RMPA to modify the Visual Resource Management (VRM) class is being considered in order for the BLM to evaluate the establishment of the Ivanpah Transportation and Utilities Corridor, which will require amending the existing 1998 Las Vegas RMP.

Purpose and Need: The FAA's purpose and need for the Proposed Action is to ensure that Clark County's proposed supplemental commercial service airport for the Las Vegas metropolitan area provides for safe and efficient air transportation pursuant to the Federal Aviation Act of 1958, as amended (Pub. L. 85-726), meets airport design standards, and complies with Public Law 106-362.

The BLM's purpose for the Proposed Action is to convey the identified federal lands to facilitate the development of the SNSA. The BLM's need for the Proposed Action is for the BLM to comply with Public Law 106-362; Public Law 107-282; and Public Law 113-291, provided that conditions set forth in the Public Laws are met and to meet agency responsibilities as required by section 209 of the Federal Land Policy and Management Act of 1976, as amended (FLPMA) (Pub. L. 94-579).

As a result of proposed infrastructure within the Interstate 15 South Corridor designated per Public Law 107-282, the BLM has also determined that it will evaluate the need for a RMPA for this project, and as a result the document will be a combined EIS/RMPA following the requirements of the BLM's land use planning regulations cited in 43 CFR part 1600. Accordingly, the BLM will consider whether to amend the 1998 Las Vegas Approved Resource Management Plan/Record of Decision within the proposed Project area to modify the Visual Resources Management (VRM) class.

BLM Planning Criteria: The BLM planning criteria guide and planning effort lay the groundwork for effects analysis by identifying the preliminary issues and their analytical frameworks. The BLM has identified some preliminary planning criteria to guide development of the RMPA, to avoid unnecessary data collection and analysis, and to ensure the RMPA is tailored to the issues/resources. These criteria may be modified and/or other criteria may be identified during the public scoping process.

Criteria 1: Any plan amendments will be completed in compliance with FLPMA, NEPA, and all other relevant Federal laws, executive orders, and BLM policies.

Criteria 2: Existing valid Las Vegas Resource Management Plan decisions will not change, and any new plan decisions will not conflict with existing valid plan decisions.

Criteria 3: Any resource management plan amendments will recognize valid existing rights.

This notice of intent initiates the scoping period and public review of the BLM planning criteria, which guide the development and analysis of the Draft EIS/RMPA. The scoping process for this EIS will also include a comment period for interested agencies and parties to submit oral and/or written comments representing the concerns and issues they believe should be addressed.

The EIS/RMPA will be prepared in accordance with NEPA, 42 U.S.C. 4321 et seq., as amended, 43 CFR 46.435, 43 CFR 1610.2, and 43 CFR part 1600, FAA Order 1050.1F, “Environmental Impacts: Policies and Procedures” (July 16, 2015), and the procedures described in FAA Order 5050.4B, National Environmental Policy Act (NEPA) Implementing Instructions for Airports Actions (April 28, 2006) along with BLM Handbook H-1790-1, “National Environmental Policy Act Handbook” and the Department of the Interior Departmental Manual Part 516, “National Environmental Policy Act of 1969”.

The Clark County Department of Aviation, the owner of Harry Reid International Airport, as well as other general aviation airports in Clark County, Nevada, proposes the following development as identified in the Southern Nevada Supplemental Airport Feasibility Study: Construction of a supplemental commercial service airport including two new runways 12,000 feet long by 150 feet wide and 15,000 feet long by 150 feet wide, parallel and connecting taxiway system; passenger terminal building with Federal Inspection Services Facility, aircraft parking apron, Airport Traffic Control Tower, navigational aids, air surveillance radar and automatic dependent broadcast ground stations, ground access infrastructure, and associated utilities. The proposal also includes development and use of associated arrival and departure flight procedures for the new runways. The FAA and the BLM are Joint Lead Agencies (JLA) for preparation of the EIS.

Public Scoping and Agency Meetings: With this notice, the JLA is announcing the scoping period to solicit public comments; to identify issues and to provide the planning criteria for public review. Related to the proposed action, the JLA are planning, two (2) in-person public scoping meetings, one (1) virtual public scoping meeting, and one (1) virtual governmental agency scoping meeting.

To ensure that the full range of issues related to Clark County's proposed project are addressed and that all significant issues are identified, comments and suggestions are invited from all interested parties. Public and agency scoping meetings will be conducted to identify any significant issues associated with the proposed project.

A virtual governmental agency scoping meeting for all Federal, State, Tribal and local regulatory agencies which have jurisdiction by law or have special expertise with respect to any potential environmental impacts associated with the proposed action will be held on July 29, 2025, from 1 p.m. to 3 p.m. Pacific daylight time. A notification letter will be sent in advance of the meeting.

To notify the general public of the scoping process, a legal notice will be placed in newspapers having general circulation in the study area, the BLM National NEPA Register, news release, and FAA and BLM social media pages. The newspaper notice will notify the public that scoping meetings will be held to gain their input concerning the proposed action, alternatives to be considered, review planning criteria and impacts to be evaluated.

The JLA is aware that there are Native American Tribes with affinity to the area. The JLA will conduct government-to-government consultation, in accordance with all executive orders, laws, regulations, and other memoranda. The Tribes will also be invited to participate in accordance with NEPA and section 106 of the National Historic Preservation Act.

Issued in El Segundo, California, May 5, 2025.
Mark A. McClardy,
Director, Airports Division, Federal Aviation Administration, Western-Pacific Region, AWP-600.

[FR Doc. 2025-08124 Filed 5-16-25; 8:45 am]

BILLING CODE 4910-13-P